NATIONAL SCIENCE FOUNDATION

Advisory Committee for Education and Human Resources Notice of Meeting

In accordance with the Federal Advisory Committee Act (Pub. L. 92-463, as amended), the National Science Foundation (NSF) announces the following meeting:

Name and Committee Code: Advisory Committee for Education and Human Resources (#1119).

Date and Time:

November 30, 2017; 8:00 a.m. to 5:00 p.m.

December 1, 2017; 8:00 a.m. to 2:00 p.m.

Place: National Science Foundation, 2415 Eisenhower Avenue, Room W2210, Alexandria, VA 22314.

To attend the meeting, all visitors must contact the Directorate for Education and Human Resources at least 48 hours prior to the meeting to arrange for a visitor's badge. All visitors must access NSF via the Visitor Center entry adjacent to the south building entrance on Eisenhower Avenue on the day of the meeting to receive their visitor's badge.

Meeting materials and minutes will also be available on the EHR Advisory Committee Web site at https://www.nsf.gov/ehr/advisory.jsp.

Type of Meeting: Open.

Contact Person: Mr. Keaven M. Stevenson, National Science Foundation, 2415 Eisenhower Avenue, Room C11000, Alexandria, VA 22314; (703) 292-8600; kstevens@nsf.gov.

Summary of Minutes: May be obtained from Dr. Susan E. Brennan, National Science Foundation, 2415 Eisenhower Avenue, Room W11233, Alexandria, VA 22314; (703) 292-5096; Sbrennan@nsf.gov.

Purpose of Meeting: To provide advice with respect to the Foundation's science, technology, engineering, and mathematics (STEM) education and human resources programming.

Agenda

Thursday, November 30, 2017; 8:00 a.m. to 5:00 p.m.

• Remarks by Committee Chair and EHR Assistant Director

• Launching a STEM Education Initiative

• Open Education Resources Subcommittee Update

• Public-Private Partnerships

• Update on NSF INCLUDES and NSF's Broadening Participation Portfolio

• EHR's New Hispanic-Serving Institutions Program

• Discussion with NSF Director France Córdova and Chief Operating Officer Joan Ferrini-Mundy

Friday, December 1, 2017; 8:00 a.m. to 2:00 p.m.

• Day 1 Recap

• Telling the EHR Story

• EHR Research Roadmap Report

• Advisory Committee FY 2018 Priorities and Use of Subcommittees

• Update on EHR Programs

• Advisory Committee Recommendations

Dated: October 30, 2017.
Crystal Robinson,
Committee Management Officer.

[FR Doc. 2017-23921 Filed 11-2-17; 8:45 a.m.]

BILLING CODE 7555-01-P